DEPARTMENT OF AGRICULTURE

Animal and Plant Health Inspection Service

[Docket No. APHIS-2007-0112]

Availability of a Draft Pest Risk Assessment for Lemons From Argentina; Extension of Comment Period

AGENCY: Animal and Plant Health Inspection Service, USDA.

ACTION: Notice.

SUMMARY: We are extending the comment period for our notice of availability and request for comments regarding a draft pest risk assessment that has been prepared relative to our consideration of a request to allow the importation into the continental United States of fresh lemons from Argentina. This action will allow interested persons additional time to prepare and submit comments.

DATES: We will consider all comments that we receive on or before December 11, 2007.

ADDRESSES: You may submit comments by either of the following methods:

• Federal eRulemaking Portal: Go to http://www.regulations.gov, select “Animal and Plant Health Inspection Service” from the agency drop-down menu, then click “Submit.” In the Docket ID column, select APHIS-2007-0112 to submit or view public comments and to view supporting and related materials available electronically. Information on using Regulations.gov, including instructions for accessing documents, submitting comments, and viewing the docket after the close of the comment period, is available through the site's “User Tips” link.

• Postal Mail/Commercial Delivery: Please send four copies of your comment (an original and three copies) to Docket No. APHIS-2007-0112, Regulatory Analysis and Development, PPD, APHIS, Station 3A-03.8, 4700 River Road Unit 118, Riverdale, MD 20737-1238. Please state that your comment refers to Docket No. APHIS-2007-0112.

Reading Room: You may read any comments that we receive on the draft pest risk assessment in our reading room. The reading room is located in room 1141 of the USDA South Building, 14th Street and Independence Avenue, SW., Washington, DC. Normal reading room hours are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: Mr. Juan Roman, Import Specialist, PPQ, APHIS, 4700 River Road Unit 133, Riverdale, MD 20737-1237; (301) 734-8758.

SUPPLEMENTARY INFORMATION: On August 13, 2007, we published in the Federal Register (72 FR 45216-45217, Docket No. APHIS-2007-0112) a notice of availability and request for comments. That document notified the public that a draft pest risk assessment had been prepared by the Animal and Plant Health Inspection Service relative to our consideration of a request to allow the importation into the continental United States of fresh lemons from Argentina. The notice made the draft pest risk assessment available to the public for review and comment.

Comments on the notice were required to be received on or before October 12, 2007. We are extending the comment period on Docket No. APHIS-2007-0112 for an additional 60 days. This action will allow interested persons additional time to prepare and submit comments.

Authority: 7 U.S.C. 450, 7701-7772, and 7781-7786; 21 U.S.C. 136 and 136a; 7 CFR 2.22, 2.80, and 371.3.

Done in Washington, DC, this 21st day of September 2007.
Kevin Shea,
Acting Administrator, Animal and Plant Health Inspection Service.

[FR Doc. E7-19089 Filed 9-26-07; 8:45 am]

BILLING CODE 3410-34-P